DEPARTMENT OF THE TREASURY

Office of the Comptroller of the Currency

[OCC Charter Number 702692]

First Federal Savings and Loan Association of Hammond, Hammond, Indiana; Supervisory Conversion Application

Notice is hereby given that on March 13, 2014, the Office of the Comptroller of the Currency (OCC) approved the application of First Federal Savings and Loan Association of Hammond, Hammond, Indiana, to undertake a voluntary supervisory conversion and merge with and into Peoples Bank SB, Munster, Indiana. Copies of the application are available on the OCC Web site at the FOIA Reading Room (https://foia-pal.occ.gov/palMain.aspx) under Mutual to Stock Conversions. If you have any questions, please contact Licensing Activities at (202) 649-6260.

Dated: April 3, 2014.
By the Office of the Comptroller of the Currency.
Stephen A. Lybarger,
Deputy Comptroller for Licensing.

[FR Doc. 2014-08118 Filed 4-9-14; 8:45 am]

BILLING CODE 4810-33-P